DEPARTMENT OF DEFENSE

Defense Contract Audit Agency

Privacy Act of 1974; Systems of Records

AGENCY: Defense Contract Audit Agency, DOD.

ACTION: Notice to Amend Records Systems.

SUMMARY: The Defense Contract Audit Agency is amending two systems of records notices in its inventory of record systems subject to the Privacy Act of 1974 (5 U.S.C. 552a), as amended. DCAA is also updating its address directory.

DATES: The actions will be effective on September 6, 2000 unless comments are received that would result in a contrary determination.

ADDRESSES: Send comments to Defense Contract Audit Agency, Information and Privacy Advisor, CMR, 8725 John J. Kingman Road, Suite 2135, Fort Belvoir, VA 22060-6219.

FOR FURTHER INFORMATION CONTACT: Mr. Dave Henshall at (703) 767-1005.

SUPPLEMENTARY INFORMATION: The Defense Contract Audit Agency notices for systems of records subject to the Privacy Act of 1974 (5 U.S.C. 552a), as amended, have been published in the Federal Register and are available from the address above.

The proposed actions are not within the purview of subsection (r) of the Privacy Act (5 U.S.C. 552a), as amended, which would require the submission of a new or altered system report for each system. The specific changes to the record systems being amended are set forth below followed by the notices, as amended, published in their entirety.

Dated: July 31, 2000.
L. M. Bynum,
Alternate OSD Federal Register Liaison Officer, Department of Defense.

RDCAA 160.5

System name:

Travel Orders (May 18, 1999, 64 FR 26947).

Changes:

* * * * *

Categories of records in the system:

Delete ‘bills of lading, vouchers, contracts’ and insert ‘transportation authorization, agreements/contracts’.

* * * * *

RDCAA 160.5

System name:

Travel Orders.

System location:

Headquarters, Defense Contract Audit Agency, 8725 John J. Kingman Road, Suite 2135, Fort Belvoir, VA 22060-6219; DCAA Regional Offices; and field audit offices, whose addresses may be obtained from their cognizant regional office. Official mailing addresses are published as an appendix to the agency's compilation of record system notices.

Categories of individuals covered by the system:

Any DCAA employee who performs official travel.

Categories of records in the system:

File contains individual's orders directing or authorizing official travel to include approval for transportation of automobiles, documents relating to dependents travel, transportation authorization, agreements/contracts and any other documents pertinent to the individual's official travel.

Authority for maintenance of the system:

10 U.S.C.133 and DoD Directive 5105.36 which is published in 32 CFR part 357.

Purpose(s):

To document all entitlements, authorizations, and paperwork associated with an employee's official travel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of DCAA's compilation of systems of records notices apply to this system.

Policies and practices for storing, retrieving, accessing, retaining, and disposing of records in the system:

Storage:

Paper records in file folders.

Retrievability:

By fiscal year and alphabetically by surname. May be filed in numerical sequence by travel order number.

Safeguards:

Under control of office staff during duty hours. Building and/or office locked and/or guarded during nonduty hours.

Retention and disposal:

Records are destroyed after four years.

System manager(s) and address:

Assistant Director, Resources, Headquarters, Defense Contract Audit Agency, 8725 John J. Kingman Road, Suite 2135, Fort Belvoir, VA 22060-6219; Regional Directors, DCAA; and Chiefs of Field Audit Offices, whose addresses may be obtained from their cognizant regional office. Official mailing addresses are published as an appendix to the agency's compilation of record system notices.

Notification procedure:

Individuals seeking to determine whether information about themselves is contained in this record system should address written inquiries to the Records Administrator, Defense Contract Audit Agency, 8725 John J. Kingman Road, Suite 2135, Fort Belvoir, VA 22060-6219.

Record access procedures:

Individuals seeking access to records about themselves contained in this record system should address written inquiries to the Records Administrator, Defense Contract Audit Agency, 8725 John J. Kingman Road, Suite 2135, Fort Belvoir, VA 22060-6219.

The request should contain the full name of the individual, current address and telephone number, and current business address.

Personal visits may be made to those offices listed in DCAA's official mailing addresses published as an appendix to DCAA's compilation of record system notices. In personal visits the individual should be able to provide acceptable identification, that is, driver's license or employing office's identification card.

Contesting record procedures:

DCAA's rules for accessing records, for contesting contents and appealing initial agency determinations are published in DCAA Regulation 5410.10; 32 CFR part 317; or may be obtained from the system manager.

Record source categories:

Administrative offices; personnel offices; servicing payroll offices; employee.

Exemptions claimed for the system:

None.

RDCAA 590.8

System name:

DCAA Management Information System (FMIS/AMIS) (November 20, 1997, 62 FR 62003).

Changes:

* * * * *

System name:

Delete entry and replace with ‘DCAA Management Information System (DMIS).

System location:

Delete entry and replace with ‘Defense Contract Audit Agency, Information Technology Division, 4075 Park Avenue, Memphis, TN 38111-7492.’

* * * * *

Categories of records in the system:

Delete from entry ‘and contract’.

* * * * *

RDCAA 590.8

System name:

DCAA Management Information System (DMIS).

System location:

Defense Contract Audit Agency, Information Technology Division, 4075 Park Avenue, Memphis, TN 38111-7492.

Categories of individuals covered by the system:

DCAA employees and contractors.

Categories of records in the system:

Records relating to audit work performed in terms of hours expended by individual employees, dollar amounts audited, exceptions reported, and net savings to the government as a result of those exceptions; records containing contractor information; records containing reimbursable billing information; name, Social Security Number, pay grade and (optionally) address information.

Authority for maintenance of the system:

5 U.S.C. 301, Departmental Regulations and E.O. 9397 (SSN).

Purpose(s):

To provide managers and supervisors with timely, on-line information regarding audit requirements, programs, and performance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of DCAA's compilation of systems of records notices apply to this system.

Policies and practices for storing, retrieving, accessing, retaining, and disposing of records in the system:

Storage:

Records are maintained in an on-line database and on magnetic tape at secure offsite storage.

Retrievability:

Records are retrieved by organizational levels, name of employee, Social Security Number, office symbol, audit activity codes, or any other combination of these identifiers.

Safeguards:

Automated records are protected by restricted access procedures. Access to records is strictly limited to authorized officials with a bona fide need for the records.

Retention and disposal:

Records are retained indefinitely.

System manager(s) and address:

Chief, Information Technology Division, Defense Contract Audit Agency, 4075 Park Avenue, Memphis, TN 38111-7492.

Notification procedure:

Individuals seeking to determine whether information about themselves is contained in this system should address written inquiries to the Chief, Information Technology Division, Defense Contract Audit Agency, 4075 Park Avenue, Memphis, TN 38111-7492.

Individuals must furnish name, Social Security Number, approximate date of record, and geographic area in which consideration was requested for record to be located and identified. Official mailing addresses are published as an appendix to the DCAA's compilation of systems notices.

Record access procedures:

Individuals seeking access to information about themselves contained in this system should address written inquiries to the Chief, Information Technology Division, Defense Contract Audit Agency, 4075 Park Avenue, Memphis, TN 38111-7492.

Individuals must furnish name, Social Security Number, approximate date of record, and geographic area in which consideration was requested for record to be located and identified.

Contesting record procedures:

DCAA's rules for accessing records, for contesting contents and appealing initial agency determinations are published in DCAA Regulation 5410.10; 32 CFR part 317; or may be obtained from the system manager.

Record source categories:

Individual employees, supervisors, audit reports and working papers.

Exemptions claimed for the system:

None.

* * * * *

DEFENSE CONTRACT AUDIT AGENCY OFFICES

(Alphabetically by State and City)

California

DCAA Western Regional Office, Attention: RCI-4, 16700 Valley View Avenue, Suite 300, La Mirada, CA 90638-5833.

Georgia

DCAA Eastern Regional Office, Attention: RCI-1, 2400 Lake Park Drive, Suite 300, Smyrna, GA 30080-7644.

Massachusetts

DCAA Northeastern Regional Office, Attention: RCI-2, 59 Composite Way, Suite 300, Lowell, MA 01851-5150.

Pennsylvania

DCAA Mid-Atlantic Regional Office, Attention: RCI-6, 615 Chestnut Street, Suite 1000, Philadelphia, PA 19106-4498.

Texas

DCAA Central Regional Office, Attention: RCI-3, 6321 East Campus Circle Drive, Irving, TX 75063-2745.

Virginia

DCAA Headquarters, Attention: CMR, 8725 John J. Kingman Road, Suite 2135, Fort Belvoir, VA 22060-6219.

[FR Doc. 00-19858 Filed 8-4-00; 8:45 am]

BILLING CODE 5001-10-F